DEPARTMENT OF HOMELAND SECURITY

48 CFR Part 3002

Homeland Security Acquisition Regulation (HSAR); Definitions of Words and Terms

CFR Correction

In title 48 of the Code of Federal Regulations, chapter 29 to end, revised as of October 1, 2007, on page 66, in 3002.101, remove the definition of “Organizational Element (OE)”.

[FR Doc. E8-10061 Filed 5-6-08; 8:45 am]

BILLING CODE 1505-01-D